DEPARTMENT OF EDUCATION

[CFDA Nos.: 84.133G and 84.133P]

Office of Special Education and Rehabilitative Services, National Institute on Disability and Rehabilitation Research; Notice Inviting Applications for New Awards for Fiscal Years (FY) 2003; Correction

ACTION: Notice inviting applications for new awards for fiscal years (FY) 2003; correction.

On September 13, a notice inviting applications for new awards under the Field-Initiated Projects-Research (84.133G-1); Field-Initiated Projects-Development (84.133G-2); and Advanced Rehabilitation Research Training Projects (84.133P-1) was published in the Federal Register (67 FR 58025). On page 58026, in the table, the column Deadline for transmittal of applications states that the deadline for transmittal of applications for these awards is “November 12, 2002.” The Deadline for transmittal of applications is corrected to read “November 13, 2002.” On page 58027, the contact person is changed to Mary Darnell.

FOR FURTHER INFORMATION CONTACT: For further information on this notice contact Mary Darnell, U.S. Department of Education, 400 Maryland Avenue, SW., room 3040, Switzer Building, Washington, DC 20202-2645. Telephone: (202) 401-6176. Or via the Internet: Mary.Darnell@ed.gov.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html.

Program Authority: 29 U.S.C. 764.

Dated: October 30, 2002.
Loretta Petty Chittum,
Acting Assistant Secretary for Special Education and Rehabilitative Services.

[FR Doc. 02-28016 Filed 11-1-02; 8:45 am]

BILLING CODE 4000-01-P